DEPARTMENT OF JUSTICE

Notice of Lodging of Proposed Consent Decree Under Comprehensive Environmental Response, Compensation and Liability Act

On November 15, 2021, the Department of Justice lodged a proposed Consent Decree (“Consent Decree”) with the United States District Court for the Western District of New York in a lawsuit entitled United States, the State of New York, and the Tuscarora Nation v. Honeywell International, Inc., Civil Action No. 21-1218. In the complaint, the plaintiffs, collectively the United States, the State of New York, and the Tuscarora Nation (also referred to as “the Natural Resource Trustees”), seek natural resource damages under Section 107(a) of the Comprehensive Environmental Response, Compensation, and Liability Act (“CERCLA”), 42 U.S.C. 9607(a) from defendant Honeywell International, Inc. (“Honeywell”). The complaint alleges that Honeywell, as a successor to the Allied Chemical Corp./Buffalo Color Corp., is a liable party in connection with natural resource damages resulting from the release of hazardous substances into a portion of the Buffalo River, Buffalo, New York (“the Site”), from the early 1900s through at least the mid-1900s.

The proposed Consent Decree requires that Honeywell, as a Settling Defendant, pay $4,250,000 to the Natural Resource Trustees to compensate for natural resource damages. The payment will reimburse past assessment costs, and fund natural resource habitat restoration projects, cultural restoration projects, and oversight costs to oversee completion of the projects. Under the proposed settlement, conservation easements and restrictions will be recorded on approximately 70 undeveloped acres of land adjacent to the Buffalo River to preserve these properties in their undeveloped condition in perpetuity. These properties are currently owned by CSX Transportation or the City of Buffalo, who are settling parties under the Consent Decree. Additional settling parties include other parties that are potentially responsible for natural resource damages that have entered into separate settlements with Honeywell.

The publication of this notice opens a period for public comment on the proposed Consent Decree. Comments should be addressed to the Assistant Attorney General, Environment and Natural Resources Division, and should refer to United States, the State of New York, and the Tuscarora Nation v. Honeywell International, Inc., Civil Action No. 21-1218, D.J. Ref. No. 90-11-3-08780. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to:Consent Decree Library,U.S. DOJ—ENRD,P.O. Box 7611,Washington, DC 20044-7611.

Please enclose a check or money order for $9.75 (25 cents per page reproduction cost), payable to the United States Treasury.

Henry Friedman,
Assistant Chief, Environmental Enforcement Section, Environment & Natural Resources Division.

[FR Doc. 2021-25309 Filed 11-18-21; 8:45 am]

BILLING CODE 4410-15-P